FEDERAL TRADE COMMISSION

16 CFR Parts 250 and 310

Notice of Intent to Request Public Comments on Guides for the Household Furniture Industry and the Telemarketing Sales Rule

AGENCY: Federal Trade Commission.

ACTION: Notice of intent to request public comments.

SUMMARY: As part of its ongoing systematic review of all Federal Trade Commission (“Commission”) rules and guides, the Commission gives notice that it intends to request public comments on the Guides for the Household Furniture Industry and the Telemarketing Sales Rule during 2000. The Commission will request comments on, among other things, the economic impact of, and the continuing need for, the rule and guides; possible conflict between the rule and guides and state, local, or other federal laws or regulations; and the effect on the rule and guides of any technological, economic, or other industry changes. No Commission determination on the need for or the substance of the rule or guides should be inferred from the intent to publish requests for comments.

FOR FURTHER INFORMATION CONTACT: Further details may be obtained from the contact person listed for each particular item.

SUPPLEMENTARY INFORMATION: The Commission intends to initiate a review of and solicit public comments on the following during 2000:

(1) Guides for the Household Furniture Industry, 16 CFR part 250.

Agency Contact: Ingrid E. Whittaker-Ware, Federal Trade Commission, Southeast Region, Suite 5M35, Midrise Building, 60 Forsyth Street, S.W., Atlanta, GA 30303, (404) 6561364.

(2) Telemarketing Sales Rule, 16 CFR Part 310.

Agency Contact: Catherine C. Harrington-McBride, Federal Trade Commission, Bureau of Consumer Protection, Division of Marketing Practices, Room H238, 600 Pennsylvania Ave., NW, Washington, DC 20580, (202) 326-2452.

Authority: 15 U.S.C. 41-58.

By direction of the Commission.
Donald S. Clark,
Secretary.

[FR Doc. 00-993 Filed 1-18-00; 8:45am]

BILLING CODE 6750-01-M